DEPARTMENT OF ENERGY

Federal Energy Regulatory Commission

[Docket No. IC09-592-001]

Commission Information Collection Activities (FERC-592); Comment Request; Submitted for OMB Review

December 3, 2009.

AGENCY: Federal Energy Regulatory Commission

ACTION: Notice.

SUMMARY: In compliance with the requirements of section 3507 of the Paperwork Reduction Act of 1995, 44 USC 3507, the Federal Energy Regulatory Commission (Commission or FERC) has submitted the information collection described below to the Office of Management and Budget (OMB) for review of the information collection requirements. Any interested person may file comments directly with OMB and should address a copy of those comments to the Commission as explained below. The Commission issued two Notices related to FERC-592 that were published in the Federal Register: (a) “Commission Information Collection Activities (FERC-592); Comment Request; Extension” (74FR 50176, 9/30/2009), and (b) “Request for Comment on and Emergency Short-Term Clearance Extension of OMB Approval for FERC-592” (74FR58010, 11/10/2009). FERC received no comments from these notices and has made this notation in its submission to OMB.

DATES: Comments on the collection of information are due by January 11, 2010.

ADDRESSES: Address comments on the collection of information to the Office of Management and Budget, Office of Information and Regulatory Affairs, Attention: Federal Energy Regulatory Commission Desk Officer. Comments to OMB should be filed electronically, c/o oira_submission@omb.eop.gov and include OMB Control Number 1902-0157 as a point of reference. The Desk Officer may be reached by telephone at 202-395-4638. A copy of the comments should also be sent to the Federal Energy Regulatory Commission and should refer to Docket No. IC09-592-001. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide/electronic-media.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, an original and two copies of the comments should be submitted to the Federal Energy Regulatory Commission, Secretary of the Commission, 888 First Street, NE., Washington, DC 20426, and should refer to Docket No. IC09-592-001.

All comments may be viewed, printed or downloaded remotely via the Internet through FERC's homepage using the “eLibrary” link. For user assistance, contact ferconlinesupport@ferc.gov or toll-free at (866) 208-3676 or for TTY, contact (202) 502-8659.

FOR FURTHER INFORMATION CONTACT: Ellen Brown may be reached by telephone at (202) 502-8663, by fax at (202) 273-0873, and by e-mail at ellen.brown@ferc.gov.

SUPPLEMENTARY INFORMATION: FERC-592 (“Standards of Conduct for Transmission Providers; and Marketing Affiliates of Interstate Pipelines,” OMB No. 1902-0157) includes the reporting, recordkeeping, and posting requirements in:

• 18 CFR Part 358 (Standards of Conduct),

• 18 CFR 250.16, and

• FERC Form No. 592 log/format, that is posted at http://www.ferc.gov/docs-filing/eforms.asp#592.

Hereafter, this Notice will refer to this group of collections of information as “FERC-592.”

Under section 4 of the Natural Gas Act (NGA), the Commission has the regulatory responsibility to ensure that pipeline rates and terms and conditions of service are just and reasonable and not unduly discriminatory. In order to ensure just and reasonable rates and services, the Commission must achieve two objectives: Prevent undue discrimination in natural gas markets, and promote competitive and efficient markets while mitigating market power. In short, the Commission's regulatory policy must seek to reconcile the objectives of fostering an efficient market that provides good alternatives to as many shippers as possible, while at the same time creating a regulatory framework that is fair and protects captive customers without good alternatives.

The “FERC-592” information (that is posted on the Web site, maintained, and/or provided by the respondents, as required) is used by the Commission to monitor the pipeline's transportation, sales, and storage activities for its marketing affiliate, and to deter undue discrimination by pipeline companies in favor of their affiliates. The information is also used by non-affiliated shippers, customers, and others (such as state commissions) to determine whether they have been harmed by affiliate preference and, in some cases, to prepare evidence for proceedings following the filing of a complaint or that address NGA section 4 rate cases.

Action: The Commission is requesting a three-year extension of the expiration date for the FERC-592, with no changes to the reporting requirements.

Burden Statement: Public reporting burden ¹ for this collection is estimated as follows.

¹ The average number of hours an employee works per year is 2,080. The average employee costs $128,297 per year.

Information collection “FERC-592” (OMB No. 1902-0157) | Number of respondents annually (1) | Number of responses per respondent (2) | Average burden hours per response (3) | Total annual burden hours (1) × (2) × (3)
18 CFR Part 358 |  |  |  |
18 CFR 250.16 |  |  |  |
FERC Form No. 592 log/format | 85 | 1 | 116.62 | 9,913
[Note: These figures may not be exact, due to rounding.]

The total estimated annual cost burden ¹ to respondents is $611,446.22 [(9,913 hours/2,080 hours per year) × $128,297/year]. The average annual cost per respondent is $7,193.48.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. E9-29412 Filed 12-9-09; 8:45 am]

BILLING CODE 6717-01-P